DEPARTMENT OF TRANSPORTATION

Federal Railroad Administration

Petition for Waiver of Compliance

In accordance with part 211 of title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

City of Jasper, Indiana

[Docket Number FRA-2009-0112]

The City of Jasper, Indiana (Jasper) acquired a railroad passenger car, number XCJI 200, built in 1947, and offers it for use in tourist/excursion service over the Dubois County Railroad and the French Lick, West Baden & Southern Railway. The railroad distance between Jasper and French Lick, Indiana, is approximately 25 miles. The car is currently equipped with automotive-type laminated glazing, which is non-compliant with FRA safety requirements.

Jasper petitioned FRA for a waiver of compliance from certain provisions of the Safety Glazing Standards—Locomotives, Passenger Cars and Cabooses, as prescribed by 49 CFR 223.15(c) Requirements for existing passenger cars. Specifically, this waiver request applies to only passenger car number XCJI 200 because all other cars operating on the tourist/excursion train were built prior to 1946, and considered “antiquated” under § 223.3 Application.

Jasper states that the reason for the waiver request is the high cost of compliant FRA Types I & II glazing material, and that the automotive-type glass is similar to the glazing installed on other cars operating over the French Lick, West Baden & Southern Railway. Further, Jasper states in their petition, there have been no reported acts of vandalism to the refurbished passenger cars.

In summary, Jasper requests relief from the regulatory requirements of 49 CFR 223.15(c) Requirements for existing passenger cars (including the required four emergency windows) for one passenger car, built in 1947, used in tourist/excursion service at a maximum authorized speed of 15 mph.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0112) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on April 13, 2010.
Grady C. Cothen, Jr.,
Deputy Associate Administrator for Safety Standards and Program Development.

[FR Doc. 2010-8756 Filed 4-15-10; 8:45 am]

BILLING CODE 4910-06-P